DEPARTMENT OF TRANSPORTATION

Federal Aviation Administration

14 CFR Part 39

[Docket No. FAA-2011-0569; Directorate Identifier 2010-NM-240-AD; Amendment 39-16811; AD 2011-20-02]

RIN 2120-AA64

Airworthiness Directives; BAE Systems (Operations) Limited Model BAe 146 and Avro 146-RJ Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

BAE Systems have received reports of in-service failure of the Main Landing Gear (MLG) shock absorber lower attachment pin.

* * * * *

This condition, if not detected and corrected, could lead to a MLG collapse on the ground or during landing and consequently damage to the aeroplane or injury to the occupants.

We are issuing this AD to require actions to correct the unsafe condition on these products.

DATES: This AD becomes effective October 28, 2011.

The Director of the Federal Register approved the incorporation by reference of certain publications listed in this AD as of October 28, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

We issued a notice of proposed rulemaking (NPRM) to amend 14 CFR part 39 to include an AD that would apply to the specified products. That NPRM was published in the Federal Register on June 22, 2011 (76 FR 36398). That NPRM proposed to correct an unsafe condition for the specified products. The MCAI states:

BAE Systems have received reports of in-service failure of the Main Landing Gear (MLG) shock absorber lower attachment pin.

Investigation has shown that the pin failures were due to corrosion.

This condition, if not detected and corrected, could lead to a MLG collapse on the ground or during landing and consequently damage to the aeroplane or injury to the occupants.

For the reasons described above, this AD requires repetitive [general visual] inspections [for damage (cracking, corrosion, and exposed material)] of the MLG shock absorber lower attachment pins and replacement, depending on findings.

The replacement, if damage is found, consists of installing serviceable pins. You may obtain further information by examining the MCAI in the AD docket.

Comments

We gave the public the opportunity to participate in developing this AD. We received no comments on the NPRM (76 FR 36398, June 22, 2011) or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 1 product of U.S. registry. We also estimate that it will take about 2 work-hours per product to comply with the basic requirements of this AD. The average labor rate is $85 per work-hour. Based on these figures, we estimate the cost of this AD to the U.S. operators to be $170 per product.

In addition, we estimate that any necessary follow-on actions would take about 2 work-hours and require parts costing $14,000, for a cost of $14,170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 36398, June 22, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-20-02 BAE Systems (Operations) Limited: Amendment 39-16811. Docket No. FAA-2011-0569; Directorate Identifier 2010-NM-240-AD.

Effective Date

(a) This airworthiness directive (AD) becomes effective October 28, 2011.

Affected ADs

(b) None.

Applicability

(c) This AD applies to BAE Systems (Operations) Limited Model BAe 146-100A, -200A, and -300A airplanes; and Model Avro 146-RJ70A, 146-RJ85A, and 146-RJ100A airplanes; certificated in any category; all serial numbers.

Subject

(d) Air Transport Association (ATA) of America Code 32: Landing gear.

Reason

(e) The mandatory continuing airworthiness information (MCAI) states:

BAE Systems have received reports of in-service failure of the Main Landing Gear (MLG) shock absorber lower attachment pin.

* * * * *

This condition, if not detected and corrected, could lead to a MLG collapse on the ground or during landing and consequently damage to the aeroplane or injury to the occupants.

Compliance

(f) You are responsible for having the actions required by this AD performed within the compliance times specified, unless the actions have already been done.

Inspections

(g) Within 4,000 flights cycles or 2 years after the effective date of this AD, whichever occurs first: Do the initial inspection of the MLG shock absorber lower attachment pins in accordance with paragraph 2.C of BAE Systems (Operations) Limited Inspection Service Bulletin ISB.32-176, initial issue, dated November 12, 2009; and paragraph 3 of Messier-Dowty Service Bulletin 146-32-157, excluding Appendix A, dated February 12, 2009.

(h) Thereafter, at intervals not to exceed 8,000 flights cycles or 4 years, whichever occurs first, repeat the inspection required by paragraph (g) of this AD.

Corrective Action

(i) If, during any inspection required by paragraphs (g) and (h) of this AD, the chromium plating on the outer diameter of any pin is found cracked, or the base material is exposed, or any corrosion is found on the chromium plating on the outer diameter of any pin, before further flight, replace the pin with a serviceable pin in accordance with paragraph 2.C of BAE Systems (Operations) Limited Inspection Service Bulletin ISB.32-176, initial issue, dated November 12, 2009; and paragraph 3 of Messier-Dowty Service Bulletin 146-32-157, excluding Appendix A, dated February 12, 2009.

(j) Replacing the pin, as required by paragraph (i) of this AD, does not constitute a terminating action for the repetitive inspections required by paragraph (h) of this AD.

FAA AD Differences

Note 1: This AD differs from the MCAI and/or service information as follows: No differences.

Other FAA AD Provisions

(k) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue, SW., Renton, Washington 98057-3356; telephone (425) 227-1175; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to MCAI European Aviation Safety Agency Airworthiness Directive 2010-0201, dated October 5, 2010; BAE Systems (Operations) Limited Inspection Service Bulletin ISB.32-176, initial issue, dated November 12, 2009; and Messier-Dowty Service Bulletin 146-32-157, excluding Appendix A, dated February 12, 2009; for related information.

Material Incorporated by Reference

(m) You must use BAE Systems (Operations) Limited Inspection Service Bulletin ISB.32-176, initial issue, dated November 12, 2009; and Messier-Dowty Service Bulletin 146-32-157, excluding Appendix A, dated February 12, 2009; to do the actions required by this AD, unless the AD specifies otherwise.

(1) The Director of the Federal Register approved the incorporation by reference of this service information under 5 U.S.C. 552(a) and 1 CFR part 51.

(2) For BAE Systems (Operations) Limited service information identified in this AD, contact BAE Systems (Operations) Limited, Customer Information Department, Prestwick International Airport, Ayrshire, KA9 2RW, Scotland, United Kingdom; telephone +44 1292 675207; fax +44 1292 675704; e-mail RApublications@baesystems.com; Internet http://www.baesystems.com/Businesses/RegionalAircraft/index.htm.

(3) For Messier-Dowty service information identified in this AD, contact Messier Services Americas, Customer Support Center, 45360 Severn Way, Sterling, Virginia 20166-8910; telephone 703-450-8233; fax 703-404-1621; Internet https://techpubs.services/messier-dowty.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington on September 14, 2011.
Ali Bahrami,
Manager, Transport Airplane Directorate, Aircraft Certification Service.

[FR Doc. 2011-24202 Filed 9-22-11; 8:45 am]

BILLING CODE 4910-13-P